DEPARTMENT OF COMMERCE

International Trade Administration

[A-570-825]

Sebacic Acid From the People's Republic of China: Final Results of Antidumping Duty Administrative Review

AGENCY: Import Administration, International Trade Administration, Department of Commerce.

ACTION: Notice of final results of antidumping duty administrative review.

SUMMARY: On April 10, 2000, the Department of Commerce published the preliminary results of administrative review of the antidumping duty order on sebacic acid from the People's Republic of China. The products covered by this order are all grades of sebacic acid which include but are not limited to CP Grade, Purified Grade, and Nylon Grade. The review covers two manufacturers/exporters. The period of review is July 1, 1998, through June 30, 1999.

Based on our analysis of the comments received, we have made changes in the margin calculations. Therefore, the final results differ from the preliminary results. The final weighted-average dumping margins for the reviewed firms are listed below in the section entitled “Final Results of the Review.”

EFFECTIVE DATE: August 14, 2000.

FOR FURTHER INFORMATION CONTACT: Christopher Priddy or Shawn Thompson, Import Administration, International Trade Administration, U.S. Department of Commerce, Washington, D.C. 20230; telephone: (202) 482-1130 or (202) 482-1776, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (1999).

Background

On April 10, 2000, the Department published the preliminary results of administrative review of the antidumping duty order on sebacic acid from the People's Republic of China (PRC). See Sebacic Acid from the People's Republic of China: Preliminary Results of Antidumping Administrative Review, 65 FR 18968 (April 10, 2000). The review covers two exporters and their respective manufacturers. The period of review (POR) is July 1, 1998, through June 30, 1999.

We invited parties to comment on the preliminary results of review. At the request of certain interested parties, we held a public hearing on June 2, 2000. The Department has conducted this administrative review in accordance with section 751 of the Act.

Scope of Review

The product covered by this review is sebacic acid. The products covered by this review are all grades of sebacic acid, a dicarboxylic acid with the formula (CH2)8(COOH)2, which include but are not limited to CP Grade (500ppm maximum ash, 25 maximum APHA color), Purified Grade (1000ppm maximum ash, 50 maximum APHA color), and Nylon Grade (500ppm maximum ash, 70 maximum ICV color). The principal difference between the grades is the quantity of ash and color. Sebacic acid contains a minimum of 85 percent dibasic acids of which the predominant species is the C10 dibasic acid. Sebacic acid is sold generally as a free-flowing powder/flake.

Sebacic acid has numerous industrial uses, including the production of nylon 6/10 (a polymer used for paintbrush and toothbrush bristles and paper machine felts), plasticizers, esters, automotive coolants, polyamides, polyester castings and films, inks and adhesives, lubricants, and polyurethane castings and coatings.

Sebacic acid is currently classifiable under subheading 2917.13.00.30 of the Harmonized Tariff Schedule of the United States (HTSUS). Although the HTSUS subheading is provided for convenience and customs purposes, our written description of the scope of this proceeding remains dispositive.

Separate Rates

Tianjin Chemicals Import and Export Corporation (Tianjin) and Guangdong Chemicals Import and Export Corporation (Guangdong) have requested separate, company-specific antidumping duty rates. In the Preliminary Results, we found that Tianjin and Guangdong had met the criteria for the application of separate antidumping duty rates. See Sebacic Acid from the People's Republic of China: Preliminary Results of Antidumping Administrative Review, 65 FR 18968, 18968-69 (April 10, 2000) (Preliminary Results). We have not received any other information since the preliminary results which would warrant reconsideration of our separate rates determination with respect to these companies. We therefore determine that Tianjin and Guangdong should be assigned individual dumping margins in this administrative review.

With respect to Sinochem International Chemicals Company, Ltd. (SICC) and Sinochem Jiangsu Import and Export Corporation (Jiangsu), which did not respond to the Department's questionnaire, we determine that these companies do not merit separate rates. The Department assigns a single rate to companies in a non-market economy, unless an exporter demonstrates an absence of government control. We determine that SICC and Jiangsu are subject to the country-wide rate for this case because these companies failed to demonstrate an absence of government control.

Use of Facts Available

As explained in the preliminary results, the use of facts available is warranted in this case because SICC and Jiangsu, which are part of the PRC entity (see “Separate Rates” section above), have failed to respond to the original questionnaire and have refused to participate in this administrative review. Therefore, in accordance with sections 776(a)(2)(A) and (C) of the Act, we find that the use of total facts available is appropriate for SICC and Jiangsu. Furthermore, in the preliminary results we determined that SICC and Jiangsu did not cooperate to the best of their ability with our requests for necessary information. Therefore, in accordance with section 776(b) of the Act, we applied adverse inferences when selecting among the facts available. As adverse facts available in this proceeding, in accordance with the Department's practice, we preliminarily assigned SICC, Jiangsu, and all other exporters subject to the PRC-wide rate the petition rate of 243.40 percent, which is the PRC-wide rate established in the less than fair value (LTFV) investigation, and the highest dumping margin determined in any segment of this proceeding. As explained in the preliminary results, we determined that this margin was corroborated in accordance with section 776(c) of the Act in the LTFV investigation. See Preliminary Results, 65 FR at 18969-70. There is no evidence on the record which warrants revisiting this issue in these final results, and no interested party submitted comments on our use of adverse facts available. Accordingly, we continue to use the petition rate from the LTFV investigation of 243.40 percent.

Analysis of Comments Received

All issues raised in the case briefs by parties to this administrative review are addressed in the “Issues and Decision Memorandum” (Decision Memo) from Richard W. Moreland, Deputy Assistant Secretary, Import Administration, to Troy H. Cribb, Acting Assistant Secretary for Import Administration, dated August 8, 2000, which is adopted by this notice. A list of the issues which parties have raised and to which we have responded, all of which are in the Decision Memo, is attached to this notice as an Appendix. Parties can find a complete discussion of all issues raised in this review and the corresponding recommendations in this public memorandum, which is on file in the Central Records Unit, room B-099, of the main Department building.

In addition, a complete version of the Decision Memo can be accessed directly on the Web at www.ia.ita.doc.gov/frn/summary/countrylist.htm under the heading “China.” The paper copy and electronic version of the Decision Memo are identical in content.

Changes Since the Preliminary Results

Based on our analysis of comments received, we have made certain changes in the margin calculations. We have also corrected certain programming and clerical errors in our preliminary results, where applicable. Any programming or clerical errors are discussed in the relevant sections of the Decision Memorandum.

Final Results of Review

We determine that the following percentage weighted-average margin percentages exist for the period July 1, 1998, through June 30, 1999:

Manufacturer/exporter | Margin (Percent)
Guangdong Chemicals Import and Export Corporation | 6.64
Tianjin Chemicals Import and Export Corporation | 0.44
PRC Country-Wide Rate | 243.40

The Department shall determine, and Customs shall assess, antidumping duties on all appropriate entries. In accordance with 19 CFR 351.212(b), we have calculated exporter/importer-specific assessment rates. We divided the total dumping margins for the reviewed sales by their total entered value for each importer. We will direct Customs to assess the resulting percentage margins against the entered Customs values for the subject merchandise on each importer's entries under the relevant order during the review period.

Cash Deposit Requirements

The following deposit requirements will be effective upon publication of this notice of final results of administrative review for all shipments of sebacic acid from the PRC entered, or withdrawn from warehouse, for consumption on or after the date of publication, as provided by section 751(a)(1) of the Act: (1) For Guangdong, the cash deposit rate will be the rate indicated above; (2) for Tianjin, the cash deposit rate will be zero because Tianjin's margin is de minimis; (3) for companies previously found to be entitled to a separate rate and for which no review was requested, the cash deposit rates will be the rate established in the most recent review of that company; (4) for all other PRC exporters of subject merchandise, the cash deposit rates will be the PRC country-wide rate indicated above; and (5) the cash deposit rate for non-PRC exporters of subject merchandise from the PRC will be the rate applicable to the PRC supplier of that exporter.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305 or conversion to judicial protective order is hereby requested. Failure to comply with the regulations and terms of an APO is a violation which is subject to sanction.

We are issuing and publishing this determination and notice in accordance with sections 751(a)(1) and 777(i) of the Act.

Dated: August 8, 2000.
Troy H. Cribb,
Acting Assistant Secretary for Import Administration.

Appendix—Issues in Decision Memo

Comments

Acceptance of the Respondents' April 28, 2000, Surrogate Value Submission

2. Capryl Alcohol Valuation

3. Water Valuation

4. Activated Carbon and Macropore Resin Valuation

5. Caustic Soda Valuation

6. Capryl Alcohol and Glycerine Purity Level Adjustments

7. Hengshui Dongfeng Chemical Factory's Castor Seed Freight Valuation and Electricity Valuation

8. International Freight Valuation

9. Brokerage and Handling Valuation

10. Castor Oil and Castor Seed Valuation

11. Phenol Valuation

[FR Doc. 00-20561 Filed 8-11-00; 8:45 am]

BILLING CODE 3510-DS-P